SECURITIES AND EXCHANGE COMMISSION

[Release No. IC-24480]

Notice of Applications for Deregistration Under Section 8(f) of the Investment Company Act of 1940

May 26, 2000.

The following is a notice of applications for deregistration under section 8(f) of the Investment Company Act of 1940 for the month of May, 2000. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on June 20, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

SSgA International Liquidity Fund [File No. 811-7775]

International Currency Fund [File No. 811-7773]

Summary: Applicants, a master fund and a feeder fund, respectively, in a master-feeder structure seek an order declaring that each applicant has ceased to be an investment company. As of February 18, 2000, all shareholders of each applicant redeemed their shares based on net asset value. No expenses were incurred in connection with the liquidation of either applicant.

Filing Dates: The applications were filed on February 17, 2000 and February 18, 2000, respectively, and amended on May 24, 2000.

Applicants' Address: 3435 Stelzer Road, Columbus, Ohio 43219-3035.

MuniVest Florida Fund [File No. 811-7580]

Summary: Applicant, a registered closed-end management investment company, seeks an order declaring that it has ceased to be an investment company. On February 7, 2000, applicant transferred its assets to MuniYield Florida Fund based on net asset value. Each holder of applicant's auction market preferred stock (“AMPS”) received the equivalent number of a newly created series of AMPS of the acquiring fund representing the same aggregate liquidation preference. Expenses of $277,489 incurred in connection with the reorganization were paid by the acquiring fund.

Filing Date: The application was filed on May 12, 2000.

Applicant's Address: 800 Scudders Mill Road, Plainsboro, New Jersey 08536.

MuniVest New Jersey Fund, Inc. [File No. 811-7574]

Summary: Applicant, a registered closed-end management investment company, seeks an order declaring that it has ceased to be an investment company. On February 7, 2000, applicant transferred its assets to MuniYield New Jersey Fund, Inc. based on net asset value. Each holder of applicant's auction market preferred stock (“AMPS”) received the equivalent number of a newly created series of AMPS of the acquiring fund representing the same aggregate liquidation preference. Expenses of $320,916 incurred in connection with the reorganization were paid by the acquiring fund.

Filing Date: The application was filed on May 15, 2000.

Applicant's Address: 800 Scudders Mill Road, Plainsboro, New Jersey 08536.

MuniYield New York Insured Fund II, Inc. [File No. 811-6661]

Summary: Applicant, a registered closed-end management investment company, seeks an order declaring that it has ceased to be an investment company. On March 6, 2000, applicant transferred its assets to MuniYield New York Insured Fund, Inc. based on net asset value. Each holder of applicant's auction market preferred stock (“AMPS”) received the equivalent number of a newly created series of AMPS of the acquiring fund representing the same aggregate liquidation preference. Expenses of $419,909 incurred in connection with the reorganization were paid by the acquiring fund.

Filing Date: The application was filed on May 16, 2000.

Applicant's Address: 800 Scudders Mill Road, Plainsboro, New Jersey 08536.

MuniHoldings Michigan Insured Fund, Inc. [File No. 811-9125]

MuniVest Michigan Insured Fund, Inc. [File No. 811-7578]

Summary: Each applicant, a registered closed-end management investment company, seeks an order declaring that it has ceased to be an investment company. On March 6, 2000, each applicant transferred its assets to MuniYield Michigan Insured Fund, Inc., based on net asset value. Each holder of each applicant's auction market preferred stock (“AMPS”) received the equivalent number of a newly created series of AMPS of the acquiring fund representing the same aggregate liquidation preference. Expenses of $368,991 were incurred in connection with each reorganization and were paid by the acquiring fund.

Filing Dates: The applicants were filed on May 15, 2000 and May 16, 2000, respectively.

Applicants' Address: 800 Scudders Mill Road, Plainsboro, New Jersey 08536.

MuniHoldings New Jersey Insured Fund II, Inc. [File No. 811-8971]

MuniHoldings New Jersey Insured Fund III, Inc. [File No. 811-9127]

Summary: Each applicant, a registered closed-end management investment company, seeks an order declaring that it has ceased to be an investment company. On March 6, 2000, each applicant transferred its assets to MuniHoldings New Jersey Insured Fund, Inc. based on net asset value. Each holder of each applicant's auction market preferred stock (“AMPS”) received the equivalent number of a newly created series of AMPS of the acquiring fund representing the same aggregate liquidation preference. Expenses of $332,631 were incurred in connection with each reorganization and were paid by the acquiring fund.

Filing Dates: The applications were filed on May 15, 2000 and May 16, 2000, respectively.

Applicants' Address: 800 Scudders Mill Road, Plainsboro, New Jersey 08536.

MuniVest Pennsylvania Insured Fund [File No. 811-7750]

MuniHoldings Pennsylvania Insured Fund [Filed No. 811-9133]

Summary: Each applicant, a registered closed-end management investment company, seeks an order declaring that it has ceased to be an investment company. On February 7, 2000, each applicant transferred its assets to MuniYield Pennsylvania Fund based on net asset value. Each holder of each applicant's auction market preferred stock (“AMPS”) received the equivalent number of a newly created series of AMPS of the acquiring fund representing the same aggregate liquidation preference. Expenses of $312,357 were incurred in connection with each reorganization and were paid by the acquiring fund.

Filing Dates: The applications were filed on May 12, 2000 and May 15, 2000, respectively.

Applicants' Address: 800 Scudders Mill Road, Plainsboro, New Jersey 08536.

MuniHoldings California Insured Fund, Inc. [File No. 811-8213]

MuniHoldings California Insured Fund III, Inc. [File No. 811-8973]

MuniHoldings California Insured Fund IV, Inc. [File No. 811-9113]

Summary: Each applicant a registered closed-end management investment company, seeks an order declaring that it has ceased to be an investment company. On March 6, 2000, each applicant transferred its assets to MuniHoldings California Insured Fund II, Inc. based on net asset value. Each holder of each applicant's auction market preferred stock (“AMPS”) received the equivalent number of a newly created series of AMPS of the acquiring fund representing the same aggregate liquidation preference. Expenses of $447,161 were incurred in connection with each reorganization and were paid by the acquiring fund.

Filing Dates: The applications were filed on May 12, 2000, May 12, 2000 and May 15, 2000, respectively.

Applicants' Address: 800 Scudders Mill Road, Plainsboro, New Jersey 08536.

MuniHoldings Florida Insured Fund II [File No. 811-8543]

MuniHoldings Florida Insured Fund III [File No. 811-8815]

MuniHoldings Florida Insured Fund IV [File No. 811-9129]

Summary: Each applicant, a registered closed-end management investment company, seeks an order declaring that it has ceased to be an investment company. On February 7, 2000, each applicant transferred its assets to MuniHoldings Florida Insured Fund based on net asset value. Each holder of each applicant's auction market preferred stock (“AMPS”) received the equivalent number of a newly created series of AMPS of the acquiring fund representing the same aggregate liquidation preference. Expenses of $467,867 were incurred in connection with each reorganization and were paid by the acquiring fund.

Filing Date: Each application was filed on May 12, 2000.

Applicants' Address: 800 Scudders Mill Road, Plainsboro, New Jersey 08536.

MuniHoldings New York Fund, Inc. II [File No. 811-8575]

MuniHoldings New York Insured Fund II, Inc. [File No. 811-8813]

MuniHoldings New York Insured Fund III, Inc. [File No. 811-9131]

Summary: Each applicant, a registered closed-end management investment company, seeks an order declaring that it has ceased to be an investment company. On March 6, 2000, each applicant transferred its assets to MuniHoldings New York Insured Fund, Inc. based on net asset value. Each holder of each applicant's auction market preferred stock (“AMPS”) received the equivalent number of a newly created series of AMPS of the acquiring fund representing the same aggregate liquidation preference. Expenses of $408,233 were incurred in connection with each reorganization and were paid by the acquiring fund.

Filing Date: Each application was filed on May 12, 2000.

Applicants' Address: 800 Scudders Mill Road, Plainsboro, New Jersey 08536.

Davis Intermediate Investment Grade Bond Fund, Inc. [File No. 811-3007]

Davis Tax-Free High Income Fund, Inc. [File No. 811-3270]

Summary: Each applicant seeks an order declaring that it has ceased to be an investment company. On March 17, 2000, applicants transferred their assets to Evergreen Intermediate Term Bond Fund, a series of Evergreen Fixed Income Trust, and Evergreen Tax-Free High Income Fund, a series of Evergreen Municipal Trust, respectively, based on the net asset value. Expenses of $81,800 and $181,400, respectively, incurred in connection with the reorganizations were paid by Davis Selected Advisers, Inc., investment adviser to applicants, and Evergreen Investment Management Company, investment adviser to each acquiring fund.

Filing Date: Each application was filed on May 16, 2000.

Applicants' Address: 2949 East Elvira Road, Suite 101, Tucson, Arizona 85706.

HT Insight Funds, Inc. d/b/a/ Harris Insight Funds [File No. 811-5366]

Summary: Applicant seeks an order declaring that it has ceased to be an investment company. On April 28, 2000, applicant transferred its assets to Harris Insight Funds Trust based on net asset value. Total expenses of $228,600 were incurred in connection with the reorganization. Harris Trust and Savings Bank, applicant's investment adviser, paid printing expenses of $41,000. The remaining expenses were paid on a pro rata basis by applicant's five series.

Filing Date: The application was filed on May 1, 2000.

Applicants' Address: 3200 Horizon Drive, King of Prussia, Pennsylvania 19406.

Morgan Stanley Dean Witter Precious Metals and Minerals Trust [File No. 811-5988]

Summary: Applicant seeks an order declaring that it has ceased to be an investment company. On January 31, 2000, applicant transferred its assets to Morgan Stanley Dean Witter Natural Resource Development Securities Inc. based on net asset value. Expenses of $118,000 incurred in connection with the reorganization were paid by applicant.

Filing Date: The application was filed on April 27, 2000.

Applicant's Address: Two World Trade Center, 70th Floor, New York, New York 10048.

Morgan Stanley Dean Witter Worldwide High income Fund [File No. 811-8717]

Discover Brokerage Index Series [File No. 811-9059]

Morgan Stanley Dean Witter Managers Focus Fund (formerly Morgan Stanley Dean Witter 20 + 20 Select Fund) [File No. 811-9077]

Summary: Each applicant seeks an order declaring that it has ceased to be an investment company. Applicants have never made a public offering of their securities and do not propose to make any public offering or engage in business of any kind.

Filing Dates: Each application was filed on April 27, 2000, and amended on May 22, 2000.

Applicants' Address: Two World Trade Center, 70th Floor, New York, New York 10048.

Warburg, Pincus Emerging Markets II Fund, Inc. [File No. 811-8937]

Warburg, Pincus Post-Venture Capital Fund, Inc. [File No. 811-7327]

Summary: Each applicant seeks an order declaring that it has ceased to be an investment company. On February 11, 2000, Warburg, Pincus Emerging Markets II Fund, Inc. transferred its assets to Warburg, Pincus Emerging Markets Fund, Inc. based on net asset value. On February 25, 2000, Warburg, Pincus Post-Venture Capital Fund, Inc. transferred its assets to Warburg, Pincus Global Post-Venture Capital Fund, Inc. based on net asset value. Expenses of approximately $100,000 incurred in connection with each reorganization were paid by applicant's investment adviser.

Filing Date: Each application was filed on April 18, 2000.

Applicants' Address: 466 Lexington Avenue, New York, New York 10017.

Warburg, Pincus Long-Short Equity Fund, Inc. [File No. 811-8929]

Summary: Applicant seeks an order declaring that it has ceased to be an investment company. On February 15, 2000, applicant made a liquidating distribution to its shareholders based on net asset value. Expenses of approximately $5,000 incurred in connection with the liquidation were paid by applicant's investment adviser.

Filing Date: The application was filed on April 18, 2000.

Applicant's Address: 466 Lexington Avenue, New York, New York 10017.

Income Opportunities Fund 1999, Inc. [File No. 811-6716]

Summary: Applicant seeks an order declaring that it has ceased to be an investment company. On December 27, 1999, applicant made a liquidating distribution to its shareholders based on net asset value. As of April 27, 2000, applicant's transfer agent was holding approximately $441,000 in an escrow account for shares that have not been surrendered. Expenses of $37,890 incurred in connection with the liquidation were paid by applicant.

Filing Dates: The application was filed on February 8, 2000, and amended on April 27, 2000.

Applicant's Address: c/o Merrill Lynch Asset Management, L.P., P.O. Box 9011, Princeton, New Jersey 08536.

Evergreen Diversified Bond Fund (formerly Keystone Diversified Bond Fund (B-2)) [File No. 811-93]

Evergreen Intermediate Term Bond Fund (formerly Keystone Intermediate Term Bond Fund) [File No.811-4952]

Evergreen Tax Free Fund (formerly Keystone Tax Free fund) [File No. 811-2740]

Evergreen Tax Free Income Fund (formerly Keystone Tax Free Income Fund) [File No. 811-4951]

Summary: Each applicant seeks an order declaring that it has ceased to be an investment company. On January 24, 1998, Evergreen Diversified Bond Fund (formerly Keystone Diversified Bond Fund (B-2)) and Evergreen Intermediate Term Bond Fund (formerly Keystone Intermediate Term Bond Fund) transferred their assets to Evergreen Diversified Bond Fund and Evergreen Intermediate Term Bond Fund, respectively, each a newly-created series of Evergreen Fixed Income Trust based on net asset value.

On January 24, 1998, Evergreen Tax Free Fund (formerly Keystone Tax Free Fund) and Evergreen Tax Free Income Fund (formerly Keystone Tax Free Income Fund) transferred their assets to Evergreen Tax Free Fund, a newly-created series of Evergreen Municipal Trust based on net asset value.

All expenses incurred in connection with the reorganizations were paid by First Union National Bank, the parent of applicants' investment adviser.

Filing Date: Each application was filed on April 25, 2000.

Applicants' Address: 200 Berkeley Street, Boston, Massachusetts 02116.

Master Investment Trust, Series I [File No. 811-8086]

Pacific Horizon Funds, Inc. [File No. 811-4293]

Summary: Each applicant seeks an order declaring that it has ceased to be an investment company. By May 21, 1999, Master Investment Trust, Series I had transferred its assets to Nations Master Investment Trust, based on net asset value, and each series of Pacific Horizon Funds, Inc. had transferred its assets to a corresponding series of either Nations Fund, Inc., Nations Institutional Reserves, or Nations Fund Trust, based on net asset value. Total expenses of $8,720,361 incurred in connection with both reorganizations were paid by Banc of America Advisors, Inc., investment adviser to the acquiring funds.

Filing Dates: The applications were filed on March 14, 2000, and amended on May 12, 2000.

Applicants' Address: 400 Bellevue Parkway, Wilmington, Delaware 19103.

For the Commission, by the Division of Investment Management, pursuant to delegated authority.
Margaret H. McFarland,
Deputy Secretary.

[FR Doc. 00-13952 Filed 6-2-00; 8:45 am]

BILLING CODE 8010-01-M